DEPARTMENT OF AGRICULTURE

Forest Service

Rocky Mountain Region; Grand Mesa, Uncompahgre and Gunnison National Forest; Mesa County, CO; Hunter Reservoir Expansion Project

AGENCY: Forest Service, USDA.

ACTION: Notice of intent to prepare an environmental impact statement.

SUMMARY: In order to provide additional water storage capacity for a growing population in the Grand Junction Area, Ute Water Conservancy District (UWCD) is proposing to enlarge Hunter Reservoir while also addressing dam safety issues. The existing reservoir is 16 surface acres. The proposed expanded reservoir would be approximately 80 surface acres.

DATES: Comments concerning the scope of the analysis must be received by November 28, 2005. The draft environmental impact statement is expected in March 2006 and the final environmental impact statement is expected in September 2006.

ADDRESSES: Send written comments to Hunter Reservoir Project, Grand Valley Ranger district, 2777 Crossroads Blvd, Unit 1, Grand Junction, Colorado 81506.

FOR FURTHER INFORMATION CONTACT: Carrie Surber, Team leader at csurber@fs.fed.us or (970) 242-8211.

SUPPLEMENTARY INFORMATION: Ute Water Conservancy District (UWCD) has decreed water rights for 110 acre-feet (AF) of storage in Hunter Reservoir located near the headwaters of Leon Creek. Leon Creek is located on the northern slopes of the Grand Mesa, a prominent geologic feature in Mesa, Delta and Gunnison Counties in western Colorado. The Hunter Reservoir project location is located approximately 11 miles south of Vega Reservoir in Section 27, T. 11 S., R. 93 W. Sixth Principle Meridian, Mesa County, Colorado.

UWCD also has conditional rights to store 582.5 AF more water at the Hunter Reservoir location. In addition to the Hunter Reservoir water rights, UWCD have conditional water rights for 5,650 AF of storage at a Big Park site, also in the Leon Creek drainage basin downstream of Hunter Reservoir. UWCD has determined that a new dam at the Big Park site would not be economically feasible for the volume of water they would be allowed to store. UWCD desires to perfect its Big Park conditional water rights at the Hunter Reservoir location by enlarging the existing dam and reservoir.

Irrespective of UWCD's storage and conditional water right desires, the Colorado Dam Safety Engineer is requiring UWCD to make structural improvements to the existing Hunter Reservoir dam in order to keep using that facility to store water.

UWCD would like to address both of these aspects of their water facility's management and responsibilities by enlarging the dam at Hunter Reservoir to both rectify dam safety concerns and put their conditional water rights to beneficial use.

The U.S.D.A Forest Service and the Army Corps of Engineers, as a requested cooperating agency, will prepare an Environmental Impact Statement (EIS) addressing the environmental consequences associated with rehabilitating the dam and enlarging the reservoir at the Hunter Reservoir location.

Purpose and Need for Action

The purpose of the proposed action is to bring the Hunter Reservoir dam into compliance with Colorado Dam Safety requirements and to enlarge the storage capacity of the reservoir so that UWCD can make beneficial use of its existing and conditional water rights in the Leon Creek drainage basin.

The need for this combined action is to afford UWCD the ability to address both the dam safety and water right use aspects of their water facilities management and responsibilities in a manner that is environmentally, economically, and technically sound.

The dam safety issues at Hunter Reservoir go back as far as 1964 when state inspection reports began to identify safety concerns at the existing dam. These 1964 concerns and others have continued to worsen to the extent that actions to rectify dam safety problems must be addressed by UWCD to continue operations at Hunter Reservoir.

UWCD needs include providing a continued supply of water to meet the public needs for a service area that is experiencing continued and rapid growth. As a public utility, UWCD has a responsibility to operate and manage its facilities with respect to feature demand with sound environmental and economic management.

This proposed action will also meet the intent of the 2004 Memorandum of Understanding (MOU) between the Rocky Mountain Region of the Forest Service and the State of Colorado, which states, in part, that the State and Forest Service agree to explore creative ways to assure continued operation of water use facilities on NFS lands while protecting aquatic resources, that conflicts are best avoided by careful advance planning and a spirit of cooperation, and that reauthorization of existing water facilities will be done in cooperation and collaboration with the holders of the permits and with other parties such as local governments, tribes, and state and federal agencies, as appropriate.

Proposed Action

The proposed action is to authorize Ute Water Conservancy District (UWCD) to enlarge Hunter Reservoir and rehabilitate the dam to address safety issues. The construction necessary to accomplish these actions is expected to take two summer seasons due to the high elevation of the Hunter Reservoir site. UWCD would like to begin construction in the summer of 2007 and anticipates completion at the end of the summer in 2008.

Dam reconstruction will be done by raising the dam height to 26 feet, installing new outlet works, widening the crest of the dam, install new service and emergency spillways, rock rip-rapping the dam embankments, and installing a seepage curtain at the foot of the dam toe. These actions would increase storage capacity, improve flood surge capacity, and eliminate fill instability. These actions are expected to bring the reservoir into compliance with the Colorado State Engineer's Office for dam safety requirements.

Road improvements would be needed on Forest Roads 262 and 280 to facilitate access by construction crews and to bring materials to the construction site. Both FR 262 and 280 are high-clearance roads not designed for passenger car travel. The type of improvements envisioned for these access roads would include, but not limited to, grading, leveling, stabilize and improve stream crossings, relocation out of wetland areas, stabilize erosion from road runoff, and gravel surfacing. Even with the anticipated road improvements it is unlikely that neither of these Forest Roads would be deemed suitable for passenger car travel, but would facilitate truck traffic necessary to move crews and materials into the site.

Most earthen materials needed for construction would be obtained on site. Rock riprap would come from a rockslide area at the site. Dam embankment material would come from spillway construction and blanket cutoff construction. Road surface gravels and filter drain materials (crushed rock) as well as cement would be delivered to the site. Concrete would be mixed and poured on site.

Possible Alternatives

Alternative 1: See proposed action above.

Alternative 2: Under this alternative only dam safety issues would be corrected and Hunter Reservoir would not be enlarged.

Alternative 3: A new storage facility would be constructed at another site within the Leon Creek drainage basin or some other adjacent drainage nearby.

Alternative 4: (No action) Under this alternative, Hunter Reservoir would not be enlarged nor dam safety issues corrected. This alternative is required by NEPA to be presented as a baseline to consider the environmental effects of action alternatives. In the event the action alternatives were found to be unacceptable, this alternative could be selected.

Lead and Cooperating Agencies

Lead Agency—USDA, Forest Service, Grand Mesa , Uncompahgre and Gunnison National Forest.

Cooperating Agency—U.S. Army Corps of Engineers, Sacramento District, Colorado/Gunnison Basin Regional Office has been requested to participate as a cooperating agency.

Responsible Official

The Responsible Official is Charles Richmond, Forest Supervisor, Grand Mesa, Uncompahgre, and Gunnison National Forests, 2250 South Highway 50, Delta, Colorado 81416.

Nature of Decision To Be Made

Given the purpose and need, the Forest Supervisor will review the proposed action, other alternatives and mitigation measures in order to make the following decisions:

• Whether or not to authorize the enlargement of Hunter Reservoir and conduct road reconstruction and other support activities to meet the stated purpose.

• If an action alternative is selected, under what conditions and by which methods reservoir enlargement and associated activities would be conducted.

The Federal Land Policy and Management Act gives the Forest Service the authority to issue or deny authorizations for water storage facilities. The Forest Service is also required to protect and manage natural resources.

Scoping Process

Initial scoping was conducted for this proposal during August 2005. Letters inviting comments on the proposal were sent to parties known to be interested. A news release was issued and published in the Grand Junction Daily Sentinel on Saturday May 28, 2005. Also, a legal notice was run in that same newspaper on Friday May 27, 2005. Seven letters were received in response. An initial set of issues, listed below, were identified from reading the response to scoping, from working with federal agencies, including the Corps of Engineers, and from Forest Service and consultant analysis.

Preliminary Issues

The following issues have been identified as preliminary issues to be carried through the analysis:

Wetlands: Based on wetland delineation by WestWater Engineering in October 2005, the following wetland classification categories will be below high water elevation of the proposed enlarged reservoir: approximately 32 acres of wetlands, 6 acres of littoral zone, and 14 acres of existing unvegetated reservoir bottom. The total acres of wetlands to be inundated are about 38 acres. Some of these wetlands have the characteristics of peat forming wetlands, which could be fens. Fens in these southern regions of the Rocky Mountains are considered rare and unique because of the plant communities often associated with such wetlands.

Soils and Water Resources: The access road will require grading, leveling and has 28 stream or wetland crossings. Leon Creek would be diverted during dam reconstruction activities and there would be temporary increases in sedimentation and erosion downstream in Leon Creek. On-site soils would be used for dam construction material.

Recreation: Proposed project activities could cause increased recreation at the reservoir and to the Hunter Reservoir area because of the improved access conditions and the attraction of a larger reservoir. Improved access could also change the recreational opportunity spectrum for the area.

Threatened/Endanged/Sensitive(TES) Species, Wildlife and Vegetation: Proposed project activities could affect existing vegetation and wildlife habitat, including TES such as Canada lynx, boreal toad and bald eagle.

Fisheries: Proposed project activities, especially during construction, could affect existing fisheries in the reservoir and Leon Creek. The long-term effects on downstream fisheries and in-lake fisheries have the potential to improve because there could be decreased potential for winter-kill in the reservoir and if in-stream flow provisions can be incorporated into the reservoir operations.

Transportation: Proposed project activities could affect National Forest System Roads. NFSR 280 and 262 are currently rough four-wheel drive roads that will need to be upgraded to allow access for crews, equipment and materials. Even with improvements, it is unlikely passenger cars could access Hunter Reservoir. Lack of annual maintenance would allow these roads to degrade to current conditions.

Range: Proposed project activities could affect grazing capacity in the Leon Creek Grazing Allotment. More water would be available over a longer period if the proposed action is approved but there would be a loss of wetland grasses and forbs that are currently utilized as forage for livestock.

Other issues may be identified through the scoping process.

Permits or Licenses Required

Department of the Army Permit (404 permit) for dam fill. Obtained by the U.S. Army Corps of Engineers.

Special Use Permit from the U.S. Forest Service.

Comments Requested

This notice of intent initiates the scoping process that guides the development of the environmental impact statement.

Early Notice of Importance of Public Participation in Subsequent Environmental Review

A draft environmental impact statement will be prepared for comment. The comment period on the draft environmental impact statement will be 45 days from the date the Environmental Protection Agency publishes the notice of availability in the Federal Register. Comments received, including the names and addresses of those who comment, will be considered part of the public record on this proposal and will be available for public inspection.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages Inc. v. Harris, 409 F. Supp. 1334, 1338 (E.D. Wis. 1980). Because of these court rulings, it is very important that those interested in this proposed action participate by the close of the 45 day comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: October 18, 2005.
Charles S. Richmond,
Forest Supervisor.

[FR Doc. 05-21335 Filed 10-25-05; 8:45 am]

BILLING CODE 3410-11-P